DEPARTMENT OF LABOR

Office of the Secretary

Submission for OMB Review: Comment Request

May 20, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/ Fax: 202-395-6974 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Roof Control Plans.

OMB Control Number: 1219-0004.

Form Number: N/A.

Estimated Number of Respondents: 613.

Estimated Total Annual Burden Hours: 12,813.

Estimated Total Annual Cost Burden (does not include hourly wage costs): $7,020.

Affected Public: Business or other for profits (mines).

Description: In order to prevent occupational injuries resulting from falls of roofs, faces, and ribs, which are a leading cause of injuries and death in underground coal mines, all underground coal mine operators are required to develop and submit roof control plans to MSHA for evaluation and approval. These plans are evaluated to determine if they are adequate for prevailing mining conditions. For additional information, see related notice published at Vol. 74 FR 10779 on March 12, 2009.

Agency: Mine Safety and Health Administration.

Type of Review: Extension without change of currently approved collection.

Title of Collection: Notification of Methane Detected in Mine Atmosphere.

OMB Control Number: 1219-0103.

Form Number: N/A.

Estimated Number of Respondents: 8.

Estimated Total Annual Burden Hours: 36.

Estimated Total Annual Cost Burden (does not include hourly wage costs): $0.

Affected Public: Business or other for profits (mines).

Description: Methane is a flammable gas found in underground mining that presence can reduce the oxygen content when mixed with air, and consequently can act as an asphyxiant when present in large quantities. To help prevent accidents or injuries, MSHA requires operators of underground metal and nonmetal mines to notify MSHA of any change in methane conditions, e.g., an outburst, a blowout, methane ignition, or methane occurrence of 0.25% or more. For additional information, see related notice published at Vol. 74 FR 9831 on March 6, 2009.

Agency: Mine Safety and Health Administration.

Type of Review: Extension without change of currently approved collection.

Title of Collection: Safety Standards for Roof Bolts in Metal and Nonmetal Mines and Underground Coal Mines.

OMB Control Number: 1219-0121.

Form Number: N/A.

Estimated Number of Respondents: 833.

Estimated Total Annual Burden Hours: 165.

Estimated Total Annual Cost Burden (does not include hourly wage costs): $0.

Affected Public: Business or other for profits (mines).

Description: Falls of roofs, faces, ribs, and highwalls in surface mines, historically, have been among the leading cause of injuries and deaths in mines. Therefore, in order to protect the safety of miners, mine operators are required to obtain certification from the manufacturers that roof and rock bolts and accessories are manufactured and tested in accordance with the applicable American Society for Testing and Materials (ASTM) specifications and make that certification available to an authorized representative of the Secretary. For additional information, see related notice published at Vol. 74 FR 9292 on March 3, 2009.

Agency: Mine Safety and Health Administration.

Type of Review: Extension without change of currently approved collection.

Title of Collection: Health Standards for Diesel Particulates (Underground Metal and Nonmetal Mines).

OMB Control Number: 1219-0135.

Form Number: N/A.

Estimated Number of Respondents: 173.

Estimated Total Annual Burden Hours: 3,331.

Estimated Total Annual Cost Burden (does not include hourly wage costs): $176,363.

Affected Public: Business or other for profits (mines).

Description: This collection pertains to safety requirements and safety standards for the maintenance and use of diesel equipment in underground metal and nonmetal mines to protect miners. The Diesel Particulate Matter (DPM) rule establishes a permissible exposure limit to total carbon, which is a surrogate for measuring a miner's exposure to DPM. The information collected is provided to the MSHA inspector and used by the agency to monitor the mine operator's compliance with the health standard. For additional information, see related notice published at Vol. 74 FR 11973 on March 20, 2009.

Darrin A. King,
Departmental Clearance Officer.

[FR Doc. E9-12127 Filed 5-22-09; 8:45 am]

BILLING CODE 4510-43-P